DEPARTMENT OF ENERGY

Federal Energy Regulatory Commission

[Docket No. RP04-165-000]

Midwestern Gas Transmission Company; Notice of Cashout Report

February 18, 2004.

Take notice that on February 11, 2004, Midwestern Gas Transmission Company (Midwestern) tendered for filing, its 10th annual cashout report for the September 2002 through August 2003 period.

Midwestern states that the cashout report reflects a net cashout gain of $290,294. Midwestern states that it will credit this gain to its firm shippers in its next issuance of invoices.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Comment Date: February 25, 2004.

Magalie R. Salas,
Secretary.

[FR Doc. E4-369 Filed 2-23-04; 8:45 am]

BILLING CODE 6717-01-P